ENVIRONMENTAL PROTECTION AGENCY

[EPA-HQ-OPP-2016-0445; FRL-9950-75]

Correction; Summitec Corporation, Versar, Inc., and CDM/CSS-Dynamac Joint Venture; Transfer of Data

AGENCY: Environmental Protection Agency (EPA).

ACTION: Notice; correction.

SUMMARY: This is a correction to the notice that published in the Federal Register of August 10, 2016, which announced that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred in accordance with the CBI regulations. That notice incorrectly identified the contractor as “Summitec Corporation and listed its subcontractors as Versar, Inc., and CDM/CSS-Dynamac Joint Venture. In this notice, EPA is correctly listing the main contractors as Summitec Corporation, Versar, Inc. and CDM/CSS-Dynamac Joint Venture; and is also providing their respective subcontractors. This document corrects the listings in the notice of August 10, 2016.

FOR FURTHER INFORMATION CONTACT: Mario Steadman, Information Technology and Resources Management Division (7502P), Office of Pesticide Programs, Environmental Protection Agency, 1200 Pennsylvania Ave. NW., Washington, DC 20460-0001; telephone number: (703) 305-8338; email address: steadman.mario@epa.gov.

SUPPLEMENTARY INFORMATION:

I. General Information

This is a correction to the notice that published in the Federal Register of August 10, 2016 (81 FR 52852) (FRL-9950-09). In that notice, EPA incorrectly identified a single contract (Contract No. EP-W-16-019) as having been awarded to “Summitec Corporation and its subcontractors, Versar, Inc., and CDM/CSS-Dynamac Joint Venture.” Instead, the notice should have identified the work as having been awarded under the following three contracts:

Contract No. EP-W-16-018: CDM/CSS-Dynamac Joint Venture and its subcontractors (Stone Environmental Inc., WinTech, LLC, Gibb Epidemiology Consulting, LLC, Global VetPathology, Corona Environmental Consulting, LLC, and WorkSafe Resources, LLC);

Contract No. EP-W-16-019: Summitec Corporation and its subcontractor (SRC); and

Contract No. EP-W-16-020: Versar, Inc. and its subcontractors (Abt Associates, EnDyna, Exponent, Inc., Essential Software, Inc., BrownGlove Consulting Group and Information Impact).

II. Contract Requirements

The work to be performed by these contractors is described in the notice of August 10, 2016. OPP has determined that providing these companies with access to information on all pesticide chemicals is necessary for the performance of this contract. The information, some of which may be entitled to confidential treatment, has been submitted to EPA under FIFRA sections 3, 4, 6, and 7 and under FFDCA sections 408 and 409. In accordance with the requirements of 40 CFR 2.307(h)(2), the contract with each company prohibits use of the information for any purpose not specified in the contract; prohibits disclosure of the information to a third party without prior written approval from the Agency; and requires that each official and employee of the contractor sign an agreement to protect the information from unauthorized release and to handle it in accordance with the FIFRA Information Security Manual. In addition, these companies are required to submit for EPA approval a security plan under which any CBI will be secured and protected against unauthorized release or compromise. No information will be provided to any of these companies until the requirements in this document have been fully satisfied. Records of information provided to these companies will be maintained by EPA project officers for this contract. All information supplied by EPA for use in connection with this contract will be returned to EPA when the companies have completed their work.

Authority: 7 U.S.C. 136 et seq.; 21 U.S.C. 301 et seq.

Dated: September 8, 2016.
Delores J. Barber,
Director, Information Technology and Resources Management Division, Office of Pesticide Programs.

[FR Doc. 2016-22762 Filed 9-20-16; 8:45 am]

BILLING CODE 6560-50-P